DEPARTMENT OF THE TREASURY

Bureau of the Fiscal Service

Privacy Act of 1974; Matching Program

AGENCY: Bureau of the Fiscal Service, Department of the Treasury.

ACTION: Notice of a new matching program.

SUMMARY: Pursuant to the Privacy Act of 1974, as amended, and the Office of Management and Budget (OMB) Guidelines on the Conduct of Matching Programs, notice is hereby given of the conduct of the Bureau of the Fiscal Service, Do Not Pay (DNP) Computer Matching Program.

DATES: Comments on this matching notice must be received no later than 30 days after date of publication in the Federal Register. If no public comments are received during the period allowed for comment, the new agreement will be effective August 23, 2023, provided it is a minimum of 30 days after the publication date.

Beginning and ending dates: The matches are conducted on an ongoing basis in accordance with the terms of the DNP Computer Matching Agreement in effect with each participant as approved by the applicable Data Integrity Board(s). The term of these agreements is expected to cover the 36 months period, (approximately July 24, 2023, to July 23, 2026). Ninety days prior to expiration of the agreement, the parties to the agreement may request a three-year extension in accordance with 5 U.S.C. 552a(o)(2)(D).

ADDRESSES: Comments may be sent by email to David.Ambrose@fiscal.treasury.gov or by mail to the Bureau of the Fiscal Service, Information and Security Services; ATTN: David J. Ambrose, Chief Security Officer/Chief Privacy Officer, Bureau of the Fiscal Service, 3201 Pennsy Drive, Building E, Landover, MD 20785.

FOR FURTHER INFORMATION CONTACT: General questions may be sent to Bureau of the Fiscal Service; Privacy, Information and Security Services; ATTN: David Ambrose, Chief Security Officer/Chief Privacy Officer, Bureau of the Fiscal Service, 3201 Pennsy Drive, Building E, Landover, MD 20785. Telephone: 202-874-6488.

SUPPLEMENTARY INFORMATION: Members of the public desiring specific information concerning an ongoing matching activity may request a copy of the applicable computer matching agreement at the address provided above.

Participating Agencies

Washington State Health Care Authority (HCA) is the recipient agency, and the Department of the Treasury, Bureau of the Fiscal Service is the source agency.

Authority for Conducting the Matching Program

The statutory authorities for the matching program are Payment Integrity Information Act of 2019 (31 U.S.C. 3351 et seq.) (PIIA), Office of Management and Budget (OMB) Memorandums M-21-19 Transmittal of Appendix C to OMB Circular A-123 Requirements for Payment Integrity Improvement (March 5, 2021), OMB Memorandum M-18-20 Transmittal of Appendix C to OMB Circular A-123 (June 26, 2018); Requirements for Payment Integrity Improvement (June 16, 2018), and 5 U.S.C. 552a. Presidential Memorandum on Enhancing Payment Accuracy through a “Do Not Pay List” (June 18, 2010). Executive Order 13520 “Reducing Improper Payments and Eliminating Waste in Federal Program” (November 20, 2009).

Purpose(s)

The purpose of this program is to prevent or reduce fraud and abuse in certain federally assisted benefit programs while protecting the privacy interests of the subjects of the match. Information is disclosed by the Bureau of the Fiscal Service, DNP only for the purpose of, and to the extent necessary in, determining eligibility for, and/or the correct amount of, benefits for individuals applying for or receiving certain benefit payments.

Categories of Individuals

Individuals applying for or receiving benefits under state administered programs.

Categories Of Records

The categories of records used in the matching program are identifying data, and payment eligibility status data. HCA will provide Fiscal Service with the following information for matching against Treasury's Working System: Business Name, Person First Name, Person Middle Name, Person Last Name, Address—if available, City Name, State Code, Person Date of Birth, Vendor/Payee Phone Number, Vendor/Payee Email Address.

Fiscal Service will return match results to HCA containing the following data elements: SSN, EIN, TIN, Full Name, General, Specialty, Exclusion Program, Exclusion Description, Exclusion Date, Birth Date, National Provider Identifier (NPI), Waiver Date, Waiver State, Address, City, State, Zip, Country Code.

System(s) of Records

The Department of the Treasury, Bureau of the Fiscal Service .017—Do Not Pay Payment Verification Records, 85 FR 11776 at 11803 (Feb. 27, 2020), through the DNP Computer Matching Program.

Ryan Law,
Deputy Assistant Secretary for Privacy, Transparency, and Records.

[FR Doc. 2023-15610 Filed 7-21-23; 8:45 am]

BILLING CODE 4810-AS-P